CORPORATION FOR NATIONAL AND COMMUNITY SERVICE

Information Collection; Submission for OMB Review, Comment Request

AGENCY: Corporation for National and Community Service.

ACTION: Notice.

SUMMARY: The Corporation for National and Community Service (hereinafter the “Corporation”), has submitted a public information collection request (ICR) entitled AmeriCorps National Civilian Community Corp's NCCC Sponsor Survey for review and approval in accordance with the Paperwork Reduction Act of 1995, Public Law 104-13, (44 U.S.C. Chapter 35). Copies of this ICR, with applicable supporting documentation, may be obtained by calling the Corporation for National and Community Service, Colleen Clay, at (202) 606-7561 or e-mail to cclay@cns.gov. Individuals who use a telecommunications device for the deaf (TTY-TDD) may call (202) 606-3472 between 8:30 a.m. and 5 p.m. Eastern Time, Monday through Friday.

ADDRESSES: Comments may be submitted, identified by the title of the information collection activity, to the Office of Information and Regulatory Affairs, Attn: Ms. Sharon Mar, OMB Desk Officer for the Corporation for National and Community Service, by any of the following two methods within 30 days from the date of publication in the Federal Register:

(1) By fax to: (202) 395-6974, Attention: Ms. Sharon Mar, OMB Desk Officer for the Corporation for National and Community Service; and

(2) Electronically by e-mail to: smar@omb.eop.gov.

SUPPLEMENTARY INFORMATION: The OMB is particularly interested in comments which:

• Evaluate whether the proposed collection of information is necessary for the proper performance of the functions of the Corporation, including whether the information will have practical utility;

• Evaluate the accuracy of the agency's estimate of the burden of the proposed collection of information, including the validity of the methodology and assumptions used;

• Propose ways to enhance the quality, utility, and clarity of the information to be collected; and

• Propose ways to minimize the burden of the collection of information on those who are to respond, including through the use of appropriate automated, electronic, mechanical, or other technological collection techniques or other forms of information technology, e.g., permitting electronic submissions of responses.

Comments

A 60-day public comment Notice was published in the Federal Register on November 23, 2010. This comment period ended January 24, 2011. One non-substantive (process) public comment was received from this Notice and a response was provided.

Description: The Corporation is seeking approval of AmeriCorps National Civilian Community Corp's NCCC Sponsor Survey which is used by NCCC projects and partnerships office to collect project performance data.

Type of Review: New.

Agency: Corporation for National and Community Service.

Title: NCCC Sponsor Survey.

OMB Number: None.

Agency Number: None.

Affected Public: The NCCC sponsor survey will be administered to the project sponsor for any NCCC service project. These sponsors apply to receive a 10-person NCCC team for a period of six-eight weeks to implement local service projects. There are approximately 165 projects in each of four project rounds per year. The project sponsors are uniquely able to provide the information sought in the NCCC Sponsor Survey.

Total Respondents: Based on the number of projects completed last fiscal year, NCCC expects to administer 660 surveys each fiscal year. These may not be unique responders as many sponsors receive teams on a rotating basis and thus may complete the survey more than once per year. Assuming the distribution of project types remains constant, the number of survey sections completed by a given sponsor will be distributed as follows: One section—54 respondents; two sections—228 respondents; 3 sections—270 respondents; four sections—108 respondents.

Frequency: Quarterly distribution. Each sponsor will complete only one survey per project.

Average Time per Response: One section—8 minutes; Two sections—15 minutes; Three sections—22 minutes; Four sections—30 minutes.

Estimated Total Burden Hours: 217 hours.

Total Burden Cost (capital/startup): None.

Total Burden Cost (operating/maintenance): None.

Dated: January 26, 2011.
Charles Davenport,
Director of Projects and Partnerships, National Civilian Community Corps.

[FR Doc. 2011-2316 Filed 2-2-11; 8:45 am]

BILLING CODE 6050-$$-P